OFFICE OF PERSONNEL MANAGEMENT

Submission for Review: Report of Withholdings and Contributions for Health Benefits, Life Insurance and Retirement (Standard Form 2812); Report of Withholdings and Contributions for Health Benefits by Enrollment Code (Standard Form 2812-A); Supplemental Semiannual Headcount Report (OPM Form 1523)

AGENCY: U.S. Office of Personnel Management.

ACTION: 30-Day notice and request for comments.

SUMMARY: Trust Funds Group of the Office of Chief Financial Officer, Office of Personnel Management (OPM), offers the general public and other Federal agencies the opportunity to comment on changes to existing Standard Form 2812, Standard Form 2812-A, and OPM Form 1523. As required by the Paperwork Reduction Act of 1995 (Pub. L. 104-13, 44 U.S.C. chapter 35), as amended by the Clinger-Cohen Act (Pub. L. 104-106), OPM is soliciting comments for this collection. The information collection was previously published in the Federal Register on June 4, 2013 (78 FR 33450) allowing for a 60-day public comment period. No comments were received for this information collection. The purpose of this notice is to allow an additional 30 days for public comments. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until September 23, 2013. This process is conducted in accordance with 5 CFR 1320.1.

ADDRESSES: Interested persons are invited to submit written comments on the proposed information collection to the Office of Information and Regulatory Affairs, Office of Management and Budget, 725 17th Street NW., Washington, DC 20503, Attention: Desk Officer for the Office of Personnel Management or by email to oira_submission@omb.eop.gov or faxed to (202) 395-6974.

FOR FURTHER INFORMATION CONTACT: A copy of this ICR, with applicable supporting documentation, may be obtained by contacting the Office of Information and Regulatory Affairs, Office of Management and Budget, 725 17th Street NW., Washington, DC 20503, Attention: Desk Officer for the Office of Personnel Management or sent by email to oira_submission@omb.eop.gov or faxed to (202) 395-6974.

SUPPLEMENTARY INFORMATION: Public Law 112-96, Section 5001, the “Middle Class Tax Relief and Job Creation Act of 2012,” makes two significant changes to the Federal Employees' Retirement System (FERS). First, beginning in 2013, new employees (as designated in the statute) will have to pay significantly higher employee contributions, an increase of 2.3 percent of salary. Second, new Members of Congress and Congressional employees, in addition to paying higher retirement contributions, will accrue retirement benefits at the same rate as regular employees.

New employees affected by this law will be classified in a new retirement category; the Federal Employees' Retirement System—Revised Annuity Employees (FERS-RAE). The current Standard Form 2812, Standard Form 2812-A, and OPM Form 1523, have been changed to reflect this additional category.

Analysis

Agency: Trust Funds Group of the Office of Chief Financial Officer, Office of Personnel Management.

Title: (1) Report of Withholdings and Contributions for Health Benefits, Life Insurance and Retirement (Standard Form 2812); (2) Report of Withholdings and Contributions for Health Benefits By Enrollment Code (Standard Form 2812-A); (3) Supplemental Semiannual Headcount Report (OPM Form 1523)

OMB Number: 3260-NEW.

Frequency: Semiannually for OPM Form 1523 and once-per-pay-period for the Standard Form 2812 and Standard Form 2812-A.

Affected Public: Public Entities with Federal Employees and Retirees.

Number of Respondents: 100.

Estimated Time per Respondent: 30 minutes.

Total Burden Hours: 2700.

U.S. Office of Personnel Management.
Elaine Kaplan,
Acting Director.

[FR Doc. 2013-20533 Filed 8-22-13; 8:45 am]

BILLING CODE 6325-23-P